FEDERAL ELECTION COMMISSION

Sunshine Act; Meetings

* * * * *

Previously Announced Date and Time: Thursday, May 26, 2005, 10 a.m. meeting open to the public. This meeting was cancelled.

* * * * *

Date and Time: Tuesday, June 7, 2005 at 10 a.m.

Place: 999 E. Street, NW., Washington, DC.

Status: This meeting will be closed to the public.

Items to be Discussed:

Compliance matters pursuant to 2 U.S.C. 437g.

Audits conducted pursuant to 2 U.S.C. 437g, 438(b), and Title 26, U.S.C.

Matters concerning participation in civil actions or proceedings or arbitration.

Internal personnel rules and procedures or matters affecting a particular employee.

* * * * *

Date and Time: Thursday, June 9, 2005, at 10 a.m.

Place: 999 E. Street, NW., Washington, DC. (Ninth Floor)

Status: This meeting will be open to the public.

Items to be Discussed:

Correction and Approval of Minutes.

Advisory Opinion 2005-05: Representative Ray LaHood by Rex Linder, Treasurer of Friends of Ray LaHood.

Final Rules and Explanation and Justification for Inflation Adjustments to Civil Penalties.

Routine Administrative Matters.

Person to Contact for Information: Mr. Robert Biersack, Press Officer, Telephone: (202) 694-1220.

Mary W. Dove,
Secretary of the Commission.

[FR Doc. 05-11131 Filed 5-31-05; 3:30 pm]

BILLING CODE 6715-01-M